DEPARTMENT OF ENERGY

Federal Energy Regulatory Commission

[Docket No. RP02-179-000]

Williams Gas Pipelines Central, Inc.; Notice of Technical Conference

April 18, 2002.

In the Commission's order issued on March 28, 2002,¹ the Commission directed a technical conference be held to address issues raised by the filing.

¹ Williams Gas Pipelines Central, Inc., 98 FERC ¶ 61,344 (2002).

Take notice that a technical conference will be held on Tuesday, May 7, 2002 at 10 a.m. in a room to be designated at the offices of the Federal Energy Regulatory Commission, 888 First Street, NE., Washington, DC 20426.

All interested parties and staff are permitted to attend.

Linwood A. Watson, Jr.,
Deputy Secretary.

[FR Doc. 02-10017 Filed 4-23-02; 8:45 am]

BILLING CODE 6717-01-P